U.S. AGENCY FOR INTERNATIONAL DEVELOPMENT

Board for International Food and Agricultural Development; One Hundred and Fifty-First Meeting; Notice of Meeting

Pursuant to the Federal Advisory Committee Act, notice is hereby given of the one hundred and fifty-first meeting of the Board for International Food and Agricultural Development (BIFAD). The meeting will be held from 7:45 a.m. to 4 p.m. on May 15, 2007 at the Hyatt Regency Hotel on Capitol Hill; located at 400 New Jersey, NW., Washington, DC. The meeting venue is in the Hyatt Regency's Congressional Rooms C, D, and E which are located on the hotel's lobby level.

The morning session, which focuses on foreign development assistance, will be opened by Dr. Robert Easter, Interim Chairman of the BIFAD. Dr. Easter is the Dean, College of Agriculture, Consumer and Environmental Sciences at the University of Illinois. He was elected by the Board to serve in this capacity upon the April 3, 2007 resignation of Mr. Peter McPherson. It is planned that the Honorable Nita M. Lowey (D-NY), Chairman, House Appropriations Subcommittee on State and Foreign Operations will discuss legislative priorities for foreign assistance. Her discussion will be followed by a special presentation on “Challenges Facing US Foreign Development Assistance: 2008 and Beyond,” and an update by the Office of the Director of Foreign Assistance (“F”) on the Foreign Assistance Framework and the 2008 Budget. After a midmorning break the Board will discuss operational and management issues covering the Collaborative Research Support Programs (CRSPS), Training, Institutional Capacity Building, and Universities as Sub-contractors as related to Title XII.

Following the executive luncheon, which is closed to the public, the Board will discuss the strategic direction of BIFAD for 2007; especially with regard to USAID's Transformational Development thrusts and the recommendations made in Richard E. Bissell's 2006 report on “Implementation of Title XII” to the Board. Last on the Agenda, the Board will discuss plans for their October 17, 2007 meeting in Des Moines, Iowa. The Iowa meeting will be held in conjunction with the World Food Prize Symposium. The October meeting's theme “Bio-Energy and Implications” will align with that of the World Food Symposium's.

This Board meeting is free and open to the public. Those wishing to attend the meeting or obtain additional information about BIFAD should contact Ronald S. Senykoff, the Designated Federal Officer for BIFAD. Write him in care of the U.S. Agency for International Development, Ronald Reagan Building, Office of Agriculture, Bureau for Economic Growth, Agriculture and Trade, 1300 Pennsylvania Avenue, NW., Room 2.11-085, Washington, DC 20523-2110 or telephone him at (202) 712-0218 or fax (202) 216-3010.

Ronald S. Senykoff,
USAID Designated Federal Officer for BIFAD, Office of Agriculture, Bureau for Economic Growth, Agriculture & Trade, U.S. Agency for International Development.

[FR Doc. 07-2278 Filed 5-8-07; 8:45 am]

BILLING CODE 6116-07-M